DEPARTMENT OF THE INTERIOR

Bureau of Land Management

[LLNVW03500.L51050000.EA0000.LVRCF2208690.241A.22XL5017AP MO#4500162447]

Temporary Closure and Temporary Restrictions of Specific Uses on Public Lands for the 2022 Burning Man Event (Permitted Event), Pershing County, NV

AGENCY: Bureau of Land Management, Interior.

ACTION: Notice of temporary closure and restrictions.

SUMMARY: Under the authority of the Federal Land Policy and Management Act of 1976, as amended (FLPMA), the Bureau of Land Management (BLM) Winnemucca District, Black Rock Field Office, will implement a temporary closure and temporary restrictions to protect public safety and resources on public lands within and adjacent to the Burning Man event on the Black Rock Desert playa.

DATES: The temporary closure and temporary restrictions will be in effect from 12:01 a.m. July 28, 2022, to midnight October 1, 2022 (66 Days).

FOR FURTHER INFORMATION CONTACT: Mark E. Hall, Field Manager, BLM Black Rock Field Office, Winnemucca District, 5100 E Winnemucca Blvd., Winnemucca, NV 89445-2921; telephone: (775) 623-1500; email: mehall@blm.gov.

Individuals in the United States who are deaf, deafblind, hard of hearing, or have a speech disability may dial 711 (TTY, TDD, or TeleBraille) to access telecommunications relay services. Individuals outside the United States should use the relay services offered within their country to make international calls to the point-of-contact in the United States.

The TTY is available 24 hours a day, 7 days a week, to leave a message or question with the above individual. You will receive a reply during normal hours.

SUPPLEMENTARY INFORMATION: The temporary closure and temporary restrictions affect public lands within and adjacent to the Burning Man event permitted on the Black Rock Desert playa within the Black Rock Desert-High Rock Canyon Emigrant Trails National Conservation Area in Pershing County, Nevada. The temporary closure of public lands will be conducted in two phases to limit impacts on the general public outside of the Burning Man event. Phase 1 will encompass a smaller temporary closure area during the building and tear-down of Black Rock City and Phase 2 will encompass the larger, temporary closure area during the event itself. Phase 2 includes all of the Phase 1 area. This year's Phase 2 temporary closure area is larger than previous closure areas for the Burning Man event.

The legal description of the affected public lands in the temporary public closure area of both stages is Mount Diablo Meridian, Nevada:

Phase 1, being the smaller area of 9,570 acres, will be effective for 26 days, from 12:01 a.m. on Thursday, July 28, 2022, until 6:00 a.m. on Monday, August 22, 2022. Phase 1 will resume at 6:00 a.m. Friday, September 23, 2022, through 11:59 p.m. on Saturday, October 1, 2022.

Phase 1:

Mount Diablo Meridian, Nevada

T. 33 N., R. 24 E., unsurveyed,

Sec. 1, those portions of the N½ lying northwesterly of the playa access road;

Sec. 2, N½ and SW¼;

Sec. 3;

Secs. 4 and 5, those portions lying southeasterly of Washoe County Road 34;

Sec. 9, N½.

T. 33½ N., R. 24 E., unsurveyed,

Secs. 25 and 26;

Secs. 27, 33, and 34, those portions lying southeasterly of West Playa Highway;

Secs. 35 and 36.

T. 34 N., R. 24 E., partly unsurveyed,

Sec. 25;

Secs. 26 and 27, those portions lying southeasterly of West Playa Highway;

Sec. 34, those portions of the E½ lying southeasterly of West Playa Highway;

Secs. 35 and 36.

T. 34 N., R. 25 E., unsurveyed,

Sec. 16, SW¼SW¼;

Sec. 21;

Sec. 27, W½NW¼ and W½SW¼;

Sec. 28;

Sec. 33, N½ and SW¼;

Sec. 34, W½NW¼.

The area described contains 9,570 acres, more or less, according to the BLM National Public Land Survey System Cadastral National Spatial Data Infrastructure (PLSS CadNSDI) dataset, the protraction diagrams, and the official plats of the surveys of the said lands, on file with the BLM.

Phase 2, being the larger area of 120,270 acres, includes all of Phase 1 and will be effective for 33 days from 6:00 a.m. on Monday, August 22, 2022, until 6:00 a.m. on Friday, September 23, 2022.

Phase 2:

Mount Diablo Meridian, Nevada

T. 33 N., R. 23 E.,

Sec. 25, NE¼NE¼, S½NE¼, SE¼NW¼, NE¼SW¼, S½SW¼, and SE¼;

Sec. 26, S½SE¼;

Sec. 35, NE¼, SE¼NW¼, N½NE¼SW¼, N½NW¼SW¼, N½NE¼SE¼, and N½NW¼SE¼;

Sec. 36, N½, N½NE¼SW¼, N½NW¼SW¼, N½NE¼SE¼, and N½NE¼SE¼.

T. 33 N., R. 24 E., unsurveyed,

Secs. 1 thru 3;

Sec. 4, those portions lying southeasterly of Washoe County Road 34;

Sec. 5;

Sec. 8, S½SW¼ and E½;

Secs. 9 thru 12;

Secs. 14 thru 17;

Sec. 18, SE¼NE¼, S½SW¼, and SE¼;

Secs. 19 and 20;

Sec. 21, excepting M.S. No. 4800;

Sec. 29, N½;

Sec. 30, N½.

T. 33 ½ N., R. 24 E., unsurveyed,

Secs. 25 thru 27;

Secs. 28, 29, and 33, those portions lying easterly and northeasterly of Washoe County Road 34;

Secs. 34 thru 36.

T. 34 N., R. 24 E., partly unsurveyed,

Secs. 1, 12, and 13;

Sec. 23, S½;

Secs. 24 thru 26;

Sec. 27, E½NE¼, E½SW¼, and SE¼;

Sec. 32, those portions of the SE¼ lying northeasterly of Washoe County Road 34;

Sec. 33, NE¼NE¼, S½NE¼, those portions of the SW¼ lying northeasterly of Washoe County Road 34, and SE¼;

Secs. 34 thru 36.

T. 35 N., R. 24 E.,

Secs. 13, 24, 25, and 36.

T. 33 N., R. 25 E.,

Secs. 2, 3, and 4, those portions lying northwesterly of the Black Rock Desert, High Rock Canyon National Conservation Area boundary.

T. 34 N., R. 25 E., unsurveyed,

Secs. 1 thru 4;

Secs. 9 thru 16;

Secs. 21 thru 28;

Secs. 33 and 34;

Secs. 35 and 36, those portions lying northwesterly of the Black Rock Desert, High Rock Canyon National Conservation Area boundary.

T. 35 N., R. 25 E., unsurveyed.

T. 34 N., R. 26 E., unsurveyed,

Secs. 1 thru 12;

Secs. 13 and 14, those portions lying northwesterly of the Black Rock Desert, High Rock Canyon National Conservation Area boundary;

Secs. 15 thru 20;

Secs. 21 thru 23, those portions lying northwesterly of the Black Rock Desert, High Rock Canyon National Conservation Area boundary;

Secs. 28 thru 31, those portions lying northwesterly of the Black Rock Desert, High Rock Canyon National Conservation Area boundary;

T. 35 N., R. 26 E., unsurveyed.

T. 34 N., R. 27 E., unsurveyed,

Secs. 2 thru 4, those portions lying northwesterly of the Black Rock Desert, High Rock Canyon National Conservation Area boundary;

Secs. 5 and 6;

Secs. 7 thru 9, those portions lying north of the Black Rock Desert, High Rock Canyon National Conservation Area boundary;

Sec. 18, those portions lying northwesterly of the Black Rock Desert, High Rock Canyon National Conservation Area boundary.

T. 35 N., R. 27 E., unsurveyed,

Secs. 1 thru 34;

Secs. 35 and 36, those portions lying northwesterly of the Black Rock Desert, High Rock Canyon National Conservation Area boundary.

The area described contains 120,270 acres, more or less, according to the BLM National PLSS CadNSDI, the protraction diagrams, and the official plats of the surveys of the said lands, on file with the BLM.

The two-phase temporary closure area is in Pershing County, Nevada, and is necessary for the period of time from July 28, 2022, to midnight October 1, 2022, because of the Burning Man event. The event's activities begin with the golden spike, fencing the site perimeter, Black Rock City setup (July 28 to August 26), followed by the actual event (12:01 a.m. on August 27 to 12:00 p.m. on September 6), Black Rock City tear down and cleanup, and final site cleanup (12:01 p.m. on September 6 to 11:59 p.m. on October 1). This event is authorized on public land under Special Recreation Permit #NVW03500-22-01.

The public temporary closure area comprises about 77 percent of the Black Rock Desert playa. Public access to the other 23 percent of the playa outside the temporary closure area will remain open to dispersed recreational use.

The event area is fully contained within the Phase 2 temporary closure area. The event area is defined as the portion of the temporary closure area that: (1) Is entirely contained within the event perimeter fence, including 50 feet from the outside of the event perimeter fence; (2) Lies within 25 feet from the outside edge of the event access road; and (3) Includes the entirety of the aircraft parking area outside the event perimeter fence.

The temporary closure and restrictions are necessary to provide a safe environment for the staffs/volunteers, participants and members of the public visiting the Black Rock Desert, and to protect public land resources by addressing law enforcement and public safety concerns associated with the event. The temporary closure and temporary restrictions are also necessary to enable BLM law enforcement personnel to provide for public safety and to protect the public lands.

The event attracts up to 87,000 participants to a remote, rural area, located more than 90 miles from urban infrastructure and support, including such services as public safety, emergency medical delivery, transportation, and communication. During the event, Black Rock City, the temporary city associated with the event, becomes one of the largest population areas in Nevada.

A temporary closure and restrictions order, under the authority of 43 CFR 8364.1, is appropriate for a single event. The temporary closure and restrictions are specifically tailored to the time frame that is necessary to provide a safe environment for the public and for participants at the Burning Man event and to protect public land resources while avoiding imposing restrictions that may not be necessary in the area during the remainder of the year.

The BLM will post copies of the temporary closure, temporary restrictions, and an associated map in kiosks at access points to the Black Rock Desert playa, as well as at the Gerlach Post Office, Bruno's Restaurant, Empire Store, Burning Man Project Offices, Friends of Black Rock-High Rock Office, the BLM-Nevada Black Rock Station near Gerlach, and the BLM-California Applegate Field Office. The BLM will also make the materials available on the BLM external web page at: http://www.blm.gov.

In addition to the Nevada Collateral Forfeiture and Bail Schedule as authorized by the United States District Court, District of Nevada and under the authority of Section 303(a) of FLPMA, 43 CFR 8360.0-7, and 43 CFR 8364.1, the BLM will enforce a temporary public closure and the following temporary restrictions will apply within and adjacent to the Burning Man event on the Black Rock Desert playa from July 28, 2022, through October 1, 2022:

Temporary Restrictions

A. Environmental Resource Management and Protection

(1) Fires/Campfires: The ignition of fires on the surface of the Black Rock Desert playa without a burn blanket or burn pan is prohibited. Campfires may only be burned in containers that are sturdily elevated six (6) inches above the playa surface and in a manner that does not pose a risk of fire debris falling onto the playa surface. Plastic and nonflammable materials may not be burned in campfires. The ignition of fires other than a campfire is prohibited. This restriction does not apply to events sanctioned and regulated as art burns by the event organizer.

(2) Fireworks: The use or possession of personal fireworks is prohibited except for uses of fireworks approved by the permit holder and used as part of a Burning Man sanctioned art burn event.

(3) Grey and Black Water Discharge: The discharge and dumping of grey water onto the playa/ground surface is prohibited. Grey water is defined as water that has been used for cooking, washing, dishwashing, or bathing and/or contains soap, detergent, or food scraps/residue, regardless of whether such products are biodegradable or have been filtered or disinfected. Black water is defined as wastewater containing feces, urine, and/or flush water.

(4) Human Waste: The depositing of human waste (liquid and/or solid) on the playa/ground surface is prohibited.

(5) Trash: The discharge of any and all trash/litter onto the ground/playa surface is prohibited. All event participants must pack out and properly dispose of all trash at an appropriate disposal facility.

(6) Hazardous Materials: The dumping or discharge of vehicle oil, petroleum products or other hazardous household, commercial or industrial refuse or waste onto the playa surface is prohibited. This applies to all recreational vehicles, trailers, motorhomes, port-a-potties, generators, and other camp infrastructure.

(7) Fuel Storage:

(a) The storage of greater than 110 gallons of fuel in a single camp is prohibited.

(b) Each camp storing fuel must establish a designated fuel storage area at least ten (10) feet apart from combustible materials; twenty-five (25) feet from vehicles, camp trailers/RV's, generators (unless manufactured and designed to store fuel), and any sources of ignition (such as burning cigarettes, open flame, electrical connections, or trailer/RV appliances); and one hundred (100) feet from other designated fuel storage areas.

(c) Fuel containers, regardless of size or type, shall not exceed 80% capacity per container.

(d) Storage areas for ALL fuel must include a secondary containment system that can hold a liquid volume equal to or greater than 110% of the largest container being stored. Secondary containment measures must comply with the following:

(i) The secondary containment system must be free of cracks or gaps and constructed of materials impermeable to the fuel(s) being stored.

(ii) The secondary containment system must be designed to allow the removal of any liquids captured resulting from leaks, spills, or precipitation.

(8) Water Discharge: The unauthorized dumping or discharge of fresh water onto the playa surface, onto city streets and/or other public areas, or onto camp electric systems in a manner that creates a hazard or nuisance is prohibited. This provision does not prohibit the use of water trucks contracted by the event organizer to provide dust abatement measures.

B. Commercial Activities

In accordance with 43 CFR 2932: Vending and the 2022 Special Recreation Permit Additional Stipulations for the permitted event, ALL vendors and air carrier services must provide proof of authorization to operate at the event issued by the permitting agency and/or the permit holder upon request. Failure to provide such authorization could result in eviction from the event.

C. Aircraft Landing

(1) The public closure area is closed to aircraft landing, taking off, and taxiing. Aircraft is defined in Title 18, U.S.C. 31 (a)(1) and includes lighter-than-aircraft and ultra-light craft. The following exceptions apply:

(a) All aircraft operations, including ultra-light and helicopter landings and takeoffs, will occur at the designated 88NV Black Rock City Airport landing strips and areas defined by airport management. All takeoffs and landings will occur only during the hours of operation (6:00 a.m. through 6:00 p.m.) of the airport as described in the Burning Man Operating Plan. All pilots that use the Black Rock City Airport must agree to and abide by the published airport rules and regulations;

(b) Only fixed wing and helicopters providing emergency medical services may land at the designated Emergency Medical Services areas/pads or at other locations when required for medical incidents.

The BLM authorized officer, or an authorized State/Local Law Enforcement Officer or his/her delegated representative may approve other helicopter landings and takeoffs when deemed necessary for the benefit of the law enforcement operation; and

(c) Landings or takeoffs of lighter-than-air craft previously approved by the BLM authorized officer.

D. Alcohol/Prohibited Substance

(1) Possession of an open container of an alcoholic beverage by the driver or operator of any motorized vehicle, whether or not the vehicle is in motion, is prohibited.

(2) Possession of alcohol by minors:

(a) The following are prohibited:

(i) Consumption or possession of any alcoholic beverage by a person under 21 years of age on public lands; and

(ii) Selling, offering to sell, or otherwise furnishing or supplying any alcoholic beverage to a person under 21 years of age on public lands.

(3) Definitions:

(a) Open container: Any bottle, can, or other container which contains an alcoholic beverage, if that container does not have a closed top or lid for which the seal has not been broken. If the container has been opened one or more times, and the lid or top has been replaced, that container is an open container.

(b) Possession of an open container includes any open container that is physically possessed by the driver or operator or is adjacent to and reachable by that driver or operator. This includes, but is not limited, to containers in a cup holder or rack adjacent to the driver or operator, containers on a vehicle floor next to the driver or operator, and containers on a seat or console area next to a driver or operator.

E. Drug Paraphernalia

(1) The possession of drug paraphernalia is prohibited.

(a) Definition: Drug paraphernalia means all equipment, products, and materials of any kind which are used, intended for use, or designed for use in planting, propagating, cultivating, growing, harvesting, manufacturing, compounding, converting, producing, preparing, testing, analyzing, packaging, repackaging, storing, containing, concealing, injecting, ingesting, inhaling, or otherwise introducing into the human body a controlled substance in violation of any state or Federal law, or regulation issued pursuant to law.

F. Disorderly Conduct

(1) Disorderly conduct is prohibited.

(2) Definition: Disorderly conduct means that an individual, with the intent of recklessly causing public alarm, nuisance, jeopardy, or violence; or recklessly creating a risk thereof:

(a) Engages in fighting or violent behavior;

(b) Uses language, an utterance or gesture, or engages in a display or act that is physically threatening or menacing or done in a manner that is likely to inflict injury or incite an immediate breach of the peace.

(c) Obstructs, resists, or attempts to elude a law enforcement officer, or fails to follow their orders or directions.

G. Eviction of Persons

(1) The public closure area is closed to any person who:

(a) Has been trespassed from the event by the permit holder;

(b) Has been evicted from the event by the BLM;

(c) Has been ordered by a law enforcement officer to leave the area of the permitted event.

(2) Any person evicted from the event forfeits all privileges to be present within the perimeter fence or anywhere else within the public closure area even if they possess a ticket to attend the event.

H. Motor Vehicles

(1) Must comply with the following requirements:

(a) The operator of a motor vehicle must possess a valid driver's license.

(b) Motor vehicles and trailers must possess evidence of valid registration, except for mutant vehicles, or other vehicles registered with the permitted event organizers and operated within the scope of that registration.

(c) Motor vehicles must possess evidence of valid insurance, except for mutant vehicles or other vehicles registered with the permitted event organizers and operated within the scope of that registration.

(d) Motor vehicles and trailers must not block a street used for vehicular travel or a pedestrian pathway.

(e) Motor vehicles must not exceed the posted or designated speed limits. Posted or designated speed limits also apply to: motorized skateboards, hover boards, electric assist bicycles, and Go-Peds with handlebars.

(f) No person shall occupy a trailer while the motor vehicle is in transit upon a roadway, except for mutant vehicles, or other vehicles registered with the permitted event organizers and operated within the scope of that registration.

(g) During night hours, from a half-hour after sunset to a half-hour before sunrise, motor vehicles, other than a motorcycle or golf cart, must be equipped with at least two working headlamps and at least two functioning tail lamps, except for mutant vehicles or other vehicles registered with the permitted event organizers and operated within the scope of that registration, so long as they are adequately lit according to Burning Man Project's Department of Mutant Vehicle requirements.

(h) Motor vehicles, including motorcycles or golf carts, must display a red, amber, or yellow light brake light visible to the rear in normal sunlight upon application of the brake, except for mutant vehicles, or other vehicles registered with the permitted event organizers and operated within the scope of that registration, so long as they are adequately lit according to Burning Man Project's Department of Mutant Vehicle requirements.

(i) Motorcycles or golf carts require only one working headlamp and one working taillight during night hours, from a half-hour after sunset to a half-hour before sunrise unless registered with the permitted event organizers and operated within the scope of that registration, so long as they are adequately lit according to Burning Man Project's Department of Mutant Vehicle requirements.

(j) Trailers pulled by motor vehicles must be equipped with at least two functioning tail lamps and at least two functioning brake lights.

(2) The public closure area is closed to motor vehicle use, except as provided below. Motor vehicles may be operated within the public closure area under the circumstances listed below:

(a) Participant arrival and departure on designated routes;

(b) BLM, medical, law enforcement, and firefighting vehicles are authorized at all times;

(c) Vehicles, mutant vehicles, or art cars operated by the permit holder's staff or contractors and service providers on behalf of the permit holder are authorized at all times. These vehicles must display evidence of event registration in such manner that it is visible to the rear of the vehicle while the vehicle is in motion;

(d) Vehicles used by disabled drivers and displaying official state disabled driver license plates or placards; or mutant vehicles and art cars, or other vehicles registered with the permit holder must display evidence of registration at all times in such manner that it is visible to the rear of the vehicle while the vehicle is in motion;

(e) Participant drop-off of approved burnable material and wood to the Burn Garden/Wood Reclamation Stations (located on open playa at 3:00, 6:00, 9:00 Promenades and the Man base) from 10:00 a.m. Sunday through the end of day Tuesday, post event;

(f) Passage through, without stopping, the public closure area on the west or east playa roads or from the east side of the playa to the west and vice versa to traverse the entirety of the playa surface.

(g) Support vehicles for art vehicles, mutant vehicles, and theme camps will be allowed to drive to and from fueling stations.

(3) Definitions:

(a) A motor vehicle is any device designed for and capable of travel over land and which is self-propelled by a motor but does not include any vehicle operated on rails or any motorized wheelchair.

(b) Motorized wheelchair means a self-propelled wheeled device, designed solely for and used by a mobility-impaired person for locomotion.

(c) “Trailer” means every vehicle without motive power designed to carry property or passengers wholly on its own structure and to be drawn by a motor vehicle. This includes camp trailers, pop-up trailers, 4′×7′ or larger flatbed trailers, enclosed cargo trailers, or RV style trailers.

I. Public Camping

(1) The public closure area is closed to public camping with the following exceptions:

(a) The permitted event's ticket holders who are camped in designated event areas provided by the permit holder.

(b) Ticket holders who are camped in the authorized pilot camp.

(c) The permit holder's authorized staff, contractors, and BLM authorized event management camps.

(d) Individuals or groups who have been permitted by the BLM.

J. Public Use

(1) The public closure area is closed to entry and use by members of the public unless that person:

(a) Is traveling through, without stopping, the public closure area on the west or east playa roads;

(b) Possesses a valid ticket to attend the event;

(c) Is an employee or authorized volunteer with the BLM, a law enforcement officer, emergency medical service provider, fire protection provider, or another public agency employee working at the event and that individual is assigned to the event;

(d) Is a person working at or attending the event on behalf of the permit holder; or is authorized by the permit holder to be onsite prior to the commencement of the event for the primary purpose of constructing, creating, designing, or installing art, displays, buildings, facilities, or other items and structures in connection with the event; or

(e) Is an employee of a commercial operation contracted to provide services to the event organizers and/or participants authorized by the permit holder through a contract or agreement and authorized by BLM through a Special Recreation Permit.

K. Lasers

(1) The possession and or use of handheld lasers is prohibited.

(2) Definition:

(a) A laser means any hand-held laser beam device or demonstration laser product that emits a single point of light amplified by the stimulated emission of radiation that is visible to the human eye.

L. Weapons

(1) For public health and safety reasons, the possession or discharge of any weapon is prohibited between the dates of August 26, 2022, and September 7, 2022, in the Phase 2 closure area, with three exceptions:

(a) Unloaded weapons may be carried within motor vehicles that are passing through, without stopping, the Phase 2 closure area on designated playa routes;

(b) County, state, Tribal, and Federal law enforcement personnel who are working in their official capacity at the event are not prohibited from possessing or discharging weapons; and

(c) Art that includes weapons will be allowed only after receipt of authorization from both the special recreation permit holder and the BLM authorized officer.

(2) Definitions:

(a) Weapon means a firearm, compressed gas or spring powered pistol or rifle, bow and arrow, cross bow, blowgun, spear gun, hand-thrown spear, sling shot, irritant gas device, electric stunning or immobilization device, explosive device, any implement designed to expel a projectile, switch-blade knife, any blade which is greater than 10 inches in length from the tip of the blade to the edge of the hilt or finger guard nearest the blade (e.g., swords, dirks, daggers, machetes), or any other weapon the possession of which is prohibited by state law. Exception: This rule does not apply in a kitchen or cooking environment or where an event worker is wearing or utilizing a construction knife for their duties at the event.

(b) Firearm means any pistol, revolver, rifle, shotgun, or other device, which is designed to, or may be readily converted to expel a projectile by the ignition of a propellant.

(c) Discharge means the expelling of a projectile from a weapon or the ignition of a propellant.

(d) Discharge means the expelling of a projectile from a weapon.

M. Enforcement

Any person who violates this temporary closure or any of these temporary restrictions may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8364.1.

Mark Hall,
Field Manager, Black Rock Field Office, Winnemucca District.

[FR Doc. 2022-14022 Filed 6-29-22; 8:45 am]

BILLING CODE 4310-HC-P